DEPARTMENT OF DEFENSE

Defense Acquisition Regulations System

48 CFR Parts 201, 204, 211, 222, and 237

Defense Federal Acquisition Regulation Supplement; Technical Amendments

AGENCY: Defense Acquisition Regulations System, Department of Defense (DoD).

ACTION: Final rule.

SUMMARY: DoD is making technical amendments to the Defense Federal Acquisition Regulation Supplement (DFARS) to provide needed editorial changes.

DATES: Effective August 28, 2014.

FOR FURTHER INFORMATION CONTACT: Mr. Manuel Quinones, Defense Acquisition Regulations System, OUSD(AT&L)DPAP(DARS), Room 3B941, 3060 Defense Pentagon, Washington, DC 20301-3060. Telephone 571-372-6088; facsimile 571-372-6094.

SUPPLEMENTARY INFORMATION: This final rule amends the DFARS as follows:

1. Corrects a hyperlink at 201.170(a)(2).

2. Removes an obsolete clause, 252.225-7022, from the list of clauses at 204.1202(2)(vii). DFARS final rule 2013-D009, published at 78 FR 59854 on September 30, 2013, removed and reserved clause 252.225-7022.

3. Directs contracting officers to additional procedures and guidance by adding a reference to DFARS PGI at 204.7103 and 211.7001.

4. Updates the DFARS part 222, Table of Contents, to revise the heading for subpart 222.6 to conform to the Federal Acquisition Regulation subpart 22.6 heading entitled “Contracts for Materials, Supplies, Articles, and Equipment Exceeding $15,000”.

5. Revises the 237.102-74 section heading and removes an obsolete reference in the paragraph text.

List of Subjects in 48 CFR Parts 201, 204, 211, 222, and 237

Government procurement.

Manuel Quinones,
Editor, Defense Acquisition Regulations System.

Therefore, 48 CFR parts 201, 204, 211, 222, and 237 are amended as follows:

1. The authority citation for 48 CFR parts 201, 204, 211, 222, and 237 continues to read as follows:

Authority: 41 U.S.C. 1303 and 48 CFR chapter 1.

PART 201—FEDERAL ACQUISITION REGULATIONS SYSTEM

201.170 [Amended]

2. Amend section 201.170 paragraph (a)(2) by removing “osd.pentagon.ousd-atl.mbx.peer-reviews@mail” and adding “osd.pentagon.ousd-atl.mbx.peer-reviews@mail.mil” in its place.

PART 204—ADMINISTRATIVE MATTERS

204.1202 [Amended]

3. Amend section 204.1202(2) by removing paragraph (vii) and redesignating paragraphs (viii) through (xiv) as (vii) through (xiii).

4. Amend section 204.7103 by adding text to read as follows:

204.7103 Contract line items.

Follow the procedures at PGI 204.7103 for establishing contract line items.

PART 211—DESCRIBING AGENCY NEEDS

5. Add subpart 211.70 to read as follows:

Subpart 211.70—Purchase Requests

211.7001 Procedures.

Follow the procedures at PGI 211.7001 for developing and distributing purchase requests, except for the requirements for Military Interdepartmental Purchase Requests (DD Form 448) addressed in 253.208-1.

PART 222—APPLICATION OF LABOR LAWS TO GOVERNMENT ACQUISITIONS

6. Revise the subpart 222.6 heading to read as follows:

Subpart 222.6—Contracts for Materials, Supplies, Articles, and Equipment Exceeding $15,000

PART 237—SERVICE CONTRACTING

7. Revise section 237.102-74 to read as follows:

237.102-74 Taxonomy for the acquisition of services, and supplies and equipment.

See PGI 237.102-74 for further guidance on the taxonomy for the acquisition of services and the acquisition of supplies and equipment.

[FR Doc. 2014-20527 Filed 8-27-14; 8:45 am]

BILLING CODE 5001-06-P